DEPARTMENT OF ENERGY

Federal Energy Regulatory Commission

Sunshine Act Meeting

January 19, 2000.

The following notice of meeting is published pursuant to section 3(a) of the Government in the Sunshine Act (Pub. L. No. 94-409), 5 U.S.C 552B:

AGENCY HOLDING MEETING: Federal Energy Regulatory Commission.

DATE AND TIME: January 26, 2000, 10:00 a.m.

PLACE: Room 2C, 888 First Street, N.E., Washington, D.C. 20426.

STATUS: Open.

MATTERS TO BE CONSIDERED: Agenda (Note—Items listed on the agenda may be deleted without further notice).

CONTACT PERSON FOR MORE INFORMATION: David P. Boergers, Secretary, Telephone (202) 208-0400. For a recording listing items stricken from or added to the meeting, call (202) 208-1627.

This is a list of matters to be considered by the commission. It does not include a listing of all papers relevant to the items on the agenda; however, all public documents may be examined in the reference and information center.

Consent Agenda—Hydro 733rd—Meeting January 26, 2000; Regular Meeting (10:00 a.m.)

CAH-1.

Omitted

CAH-2.

Docket# P-11282, 003, Summit Hydropower, Inc.

CAH-3.

Docket# P-4270, 005, Mountain Rhythm Resources

CAH-4.

Omitted

Consent Agenda—Electric

CAE-1.

Docket# ER00-713, 000, Southwest Power Pool, Inc.

CAE-2.

Docket# ER00-661, 000, American Electric Power Service Corporation

CAE-3.

Docket# ER00-710, 000, Southhaven Power, LLC

Other#s ER00-741, 000, Canal Emirates Power International, Inc.

ER00-744, 000, PPL Martins Creek, LLC, PPL Montour, LLC, PPL Brunner Island, LLC, PPL Holtwood, LLC and PPL Susquehanna, LLC

CAE-4.

Docket# ER00-663, 000, Puget Sound Energy, Inc.

Other#s ER00-664, 000, Puget Sound Energy, Inc.

ER00-665, 000, Puget Sound Energy, Inc.

ER00-666, 000, Puget Sound Energy, Inc.

ER00-667, 000, Puget Sound Energy, Inc.

ER00-668, 000, Puget Sound Energy, Inc.

ER00-669, 000, Puget Sound Energy, Inc.

ER00-670, 000, Puget Sound Energy, Inc.

ER00-671, 000, Puget Sound Energy, Inc.

ER00-672, 000, Puget Sound Energy, Inc.

ER00-673, 000, Puget Sound Energy, Inc.

ER00-674, 000, Puget Sound Energy, Inc.

ER00-675, 000, Puget Sound Energy, Inc.

ER00-676, 000, Puget Sound Energy, Inc.

ER00-677, 000, Puget Sound Energy, Inc.

ER00-678, 000, Puget Sound Energy, Inc.

CAE-5.

Docket# ER00-718, 000, Tampa Electric Company

CAE-6.

Docket# ER00-569, 000, CSW Operating Companies

CAE-7.

Omitted

CAE-8.

Docket# ER00-746, 000, Amergen Energy Company, L.L.C.

CAE-9.

Docket# EL99-75, 002, California Power Exchange Corporation

Other#S EC96-19, 051, California Power Exchange Corporation

ER96-1663, 053, California Power Exchange Corporation

ER00-723, 000, California Power Exchange Corporation

CAE-10.

Docket# ER99-2012, 002, North American Electric Reliability Council

CAE-11.

Docket# ER99-3719, 000, Mountain West Independent System Administrator

Other#s EC99-100, 000, Sierra Pacific Power Company and Nevada Power Company

CAE-12.

Docket# ER99-3886, 001, Commonwealth Edison Company and Commonwealth Edison Company of Indiana

CAE-13.

Omitted

CAE-14.

Docket# ER00-657, 000, Pacific Gas and Electric Company

CAE-15.

Docket# ER00-335, 000, Central Vermont Public Service Corporation

CAE-16.

Docket# ER98-2668, 008, Duke Energy Moss Landing LLC

Other#S ER98-2669, 007, Duke Energy Oakland LLC

ER98-4296, 005, Duke Energy Oakland LLC

ER98-4300, 005, Duke Energy Moss Landing LLC

ER99-1127, 006, Duke Energy Moss Landing LLC

ER99-1128, 006, Duke Energy Oakland LLC

CAE-17.

Docket# ER99-978, 000, Boston Edison Company

Other#S EL99-31, 000, Boston Edison Company

CAE-18.

Docket# ER99-2339, 002, Sierra Pacific Power Company

CAE-19.

Docket# ER99-1618, 000, Atlantic City Electric Company

Other#S ER99-1618, 001, Atlantic City Electric Company

CAE-20.

Docket# ER99-3887, 000, Midamerican Energy Company

Other#S EL99-92, 000, Midamerican Energy Company

ER99-4226, 000, Ameren Operating Companies

ER99-4415, 000, Illinois Power Company

ER99-4470, 000, Commonwealth Edison Company and Commonwealth Edison Company of Indiana

ER99-4530, 000, Illinois Power Company

EL00-7, 000, Illinois Power Company

EL00-16, 000, Ameren Operating Companies

EL00-21, 000, Commonwealth Edison Company and Commonwealth Edison Company of Indiana

CAE-21.

Docket# ER98-441, 005, Southern California Edison Company

Other# ER98-2550, 002, Southern California Edison Company

ER98-495, 005, Pacific Gas and Electric Company

ER98-1614, 003, Pacific Gas and Electric Company

ER98-2145, 003, Pacific Gas and Electric Company

ER98-496, 004, San Diego Gas & Electric Company

ER98-2160, 002, San Diego Gas & Electric Company

ER98-2668, 006, Duke Energy Moss Landing LLC

ER98-2669, 005, Duke Energy Oakland LLC

ER98-4296, 003, Duke Energy Oakland LLC

ER98-4300, 003, Duke Energy Moss Landing LLC

ER99-1127, 004, Duke Energy Moss Landing LLC

ER99-1128, 004, Duke Energy Oakland LLC

ER98-441, 008, Southern California Edison Company

ER98-441, 009, Southern California Edison Company

CAE-22.

Docket# ER99-2326, 002, Pacific Gas and Electric Company

Other#S EL99-68, 002, Pacific Gas and Electric Company

CAE-23.

Docket# EC98-40, 002, American Electric Power Company, Inc. and Central and South West Corporation

Other#S ER98-2770, 002, American Electric Power Company, Inc. and Central and South West Corporation

ER98-2786, 003, American Electric Power Company, Inc. and Central and South West Corporation

CAE-24.

Docket# ER99-3339, 001, California Independent System Operator Corporation

CAE-25.

Docket# ER97-1523, 017, Central Hudson Gas & Electric Corporation, Consolidated Edison Company of New York, Inc., New York State Electric & Gas Corporation, Niagara Mohawk Power Corporation, Orange and Rockland Utilities, Inc. and Rochester Gas and Electric Corporation

Other#s OA97-470, 014, Central Hudson Gas & Electric Corporation, Consolidated Edison Company of New York, Inc., New York State Electric & Gas Corporation, Niagara Mohawk Power Corporation, Orange and Rockland Utilities, Inc. and Rochester Gas and Electric Corporation

ER97-4234, 016, Central Hudson Gas & Electric Corporation, Consolidated Edison Company of New York, Inc., New York State Electric & Gas Corporation, Niagara Mohawk Power Corporation, Orange and Rockland Utilities, Inc. and Rochester Gas and Electric Corporation

CAE-26.

Omitted

CAE-27.

Docket# RM00-7, 000, Revision of Annual Charges Assessed to Public Utilities

CAE-28.

Docket# EL00-15, 000, Pittsfield Generating Company, L.P.

CAE-29.

Docket# EL00-10, 000, Open-Access Same-Time Information System and Standards of Conduct

CAE-30.

Docket# EL00-8, 000, White River Electric Association Incorporated

Other#s EL00-14, 000, McDonough Power Cooperative

CAE-31.

Docket# EL00-23, 000, Choptank Electric Cooperative

CAE-32.

Docket# EL00-1, 000, AES NY, L.L.C. V. Niagara Mohawk Power Corporation

CAE-33.

Docket# EL99-90, 000, City of Wichita, Kansas V. Western Resources, Inc.

CAE-34.

Docket# EL00-9, 000, Cherokee County Cogeneration Partners, L.P. V. Duke Energy Corporation

Other#s ER99-2331, 002, Duke Energy Corporation

CAE-35.

Omitted

CAE-36.

Docket# OA97-433, 005, Public Service Company of New Mexico

Other#s OA97-720, 005, Public Service Company of New Mexico

Consent Agenda—Gas and Oil

CAG-1.

Docket# RP00-145, 000, Sumas International Pipeline Inc.

CAG-2.

Docket# RP00-157, 000, Kern River Gas Transmission Company

CAG-3.

Omitted

CAG-4.

Omitted

CAG-5.

Docket# RP96-272, 014, Northern Natural Gas Company

CAG-6.

Docket# RP00-152, 000, Northern Natural Gas Company

CAG-7.

Docket# RP00-141, 000, Pine Needle LNG Company, LLC

CAG-8.

Omitted

CAG-9.

Docket# RP99-481, 000, Transwestern Pipeline Company

Other#s RP99-481, 001, Transwestern Pipeline Company

CAG-10.

Docket# RP99-20, 000, Vidor Pipeline Company

CAG-11.

Omitted

CAG-12.

Docket# RP00-39, 001, Natural Gas Pipeline Company of America

CAG-13.

Omitted

CAG-14.

Docket# RP99-518, 002, PGE Gas Transmission, Northwest Corporation

CAG-15.

Omitted

CAG-16.

Omitted

CAG-17.

Docket# RP93-5, 031, Northwest Pipeline Corporation

Other#s RP93-5, 036, Northwest Pipeline Corporation

RP93-96, 006, Northwest Pipeline Corporation

CAG-18.

Docket# RP96-129, 006, Trunkline Gas Company

Other#s RP96-129, 005, Trunkline Gas Company

RP96-129, 007, Trunkline Gas Company

CAG-19.

Omitted

CAG-20.

Docket# RP99-514, 001, Destin Pipeline Company, L.L.C.

CAG-21.

Omitted

CAG-22.

Docket# CP87-203, 007, CNG Transmission Corporation

Other#S CP99-106, 000, NE Hub Partners, L.P. V. CNG Transmission Corporation

CAG-23.

Omitted

CAG-24.

Docket# CP98-596, 001, Columbia Gulf Transmission Company

CAG-25.

Docket# PL99-3, 001, Certification of New Interstate Natural Gas Pipeline Facilities

CAG-26.

Docket# RM00-5, 000, Optional Certificate and Abandonment Procedures for Applications for New Service Under Section 7 of the Natural Gas Act

CAG-27.

Omitted

CAG-28.

Docket# RP00-63, 000, Great Lakes Gas Transmission Limited Partnership

CAG-29.

Docket# CP99-322, 000, El Paso Natural Gas Company

Other#s CP99-323, 000, El Paso Natural Gas Company

Hydro Agenda

H-1.

Reserved

Electric Agenda

E-1.

Reserved

Oil and Gas Agenda

I. Pipeline Rate Matters

PR-1.

Omitted

PR-2.

Docket# RM00-6, 000, Well Category Determinations Proposed Rulemaking

II. Pipeline Certificate Matters

PC-1.

Reserved

David P. Boergers,
Secretary.

[FR Doc. 00-1791 Filed 1-21-00; 12:20 pm]

BILLING CODE 6717-01-P